DEPARTMENT OF COMMERCE

International Trade Administration

[C-570-197]

Slag Pots From the People's Republic of China: Final Affirmative Countervailing Duty Determination

AGENCY: Enforcement and Compliance, International Trade Administration, Department of Commerce.

SUMMARY: The U.S. Department of Commerce (Commerce) determines that countervailable subsidies are being provided to producers and exporters of slag pots from the People's Republic of China (China). The period of investigation is January 1, 2023, through December 31, 2023.

DATES: Applicable August 28, 2025.

FOR FURTHER INFORMATION CONTACT: Samuel Brummitt or T.J. Worthington, AD/CVD Operations, Office III, Enforcement and Compliance, International Trade Administration, U.S. Department of Commerce, 1401 Constitution Avenue NW, Washington, DC 20230; telephone: (202) 482-7851 or (202) 482-4567, respectively.

SUPPLEMENTARY INFORMATION:

Background

On April 3, 2025, Commerce published its Preliminary Determination in the Federal Register.¹ Because no comments were submitted by interested parties, we have adopted our Preliminary Determination for purposes of this final determination. Accordingly, no decision memorandum accompanies this Federal Register notice. Commerce conducted this investigation in accordance with section 705 of the Tariff Act of 1930, as amended (the Act).

¹ See Slag Pots from the People's Republic of China: Preliminary Affirmative Countervailing Duty Determination, 90 FR 14625 (April 3, 2025) (Preliminary Determination), and accompanying Preliminary Decision Memorandum (PDM).

Scope of the Investigation

The products covered by this investigation are slag pots from China. For a complete description of the scope of this investigation, see Appendix.

Scope Comments

In the Preliminary Scope Memorandum, we set aside a period of time for parties to raise issues regarding product coverage (i.e., scope) in scope-specific case or other written comments on scope issues.² We received no comments from interested parties on the scope of the investigation as it appeared in the Preliminary Scope Memorandum. Therefore, we made no changes to the scope of the investigation.³

² See Memorandum, “Preliminary Scope Decision Memorandum,” dated March 27, 2025 (Preliminary Scope Memorandum).

³ Id. at Appendix.

Verification

Because the mandatory respondents in this investigation did not provide information requested by Commerce, and Commerce determined that the mandatory respondents were uncooperative, no verification was conducted.

All-Others Rate

As discussed in the Preliminary Determination, Commerce based the selection of the all-others rate on the countervailable subsidy rates established for the mandatory respondents, in accordance with 703(d) of the Act.⁴ Consistent with section 705(c)(5)(A)(ii) of the Act, we made no changes to the methodology used to select the all-others rate for the final determination; specifically, we have assigned the sole rate assigned to the mandatory respondents to all other companies.

⁴ See Preliminary Determination, 90 FR at 14625, 14626.

Final Determination

Commerce determines that the following estimated countervailable subsidy rates exist:

Company | Subsidy rate (percent ad valorem)
Chaeng Great Wall Steel Casting Co. Ltd | * 226.16
UMECC Beijing Equipment Inc. Ltd | * 226.16
Cast-Con Engineering GmbH & Co. KG | * 226.16
Changzhou Jinyuan Machinery Equipment Ltd. Co | * 226.16
Dawang Metals Co. Ltd | * 226.16
GVA Krefeld GmbH | * 226.16
Liaoning Mineral and Metallurgy Group Co. Ltd | * 226.16
Luoyang Zhongtai Industries Co., Ltd | * 226.16
Shantou Huaxing Metallurgical Equipment Co. Ltd | * 226.16
Tangshan Sinya International Trade Co., Ltd | * 226.16
All Others | 226.16
* Rate is based on facts available with adverse inferences.

Disclosure

Normally, Commerce discloses to interested parties the calculations performed in final determination within five days of any public announcement or, if there is no public announcement, within five days of the date of publication of this final determination in the Federal Register, in accordance with 19 CFR 351.224(b). However, the program rates assigned as AFA in the Preliminary Determination are unchanged, there are no additional calculations performed in this final determination and, therefore, there are no calculations to disclose.

Suspension of Liquidation

As a result of our Preliminary Determination and pursuant to sections 703(d)(1)(B) and (d)(2) of the Act, we instructed U.S. Customs and Border Protection (CBP) to suspend liquidation of entries of subject merchandise from China that were entered, or withdrawn from warehouse, for consumption, on or after April 3, 2025, the date of publication of the Preliminary Determination in the Federal Register. In accordance with section 703(d) of the Act, we instructed CBP to discontinue the suspension of liquidation of all entries of subject merchandise entered or withdrawn from warehouse, on or after August 1, 2025 but to continue the suspension of liquidation of all entries of subject merchandise on or before July 31, 2025.

If the U.S. International Trade Commission (ITC) issues a final affirmative injury determination, we will issue a countervailing duty order, reinstate the suspension of liquidation under section 706(a) of the Act, and require a cash deposit of estimated countervailing duties for entries of subject merchandise in the amounts indicated above. If the ITC determines that material injury, or threat of material injury, does not exist, this proceeding will be terminated, and all estimated duties deposited or securities posted as a result of the suspension of liquidation will be refunded or canceled.

ITC Notification

In accordance with section 705(d) of the Act, we intend to notify the ITC of our final affirmative determination that countervailable subsidies are being provided to producers and exporters of slag pots from China. Because the final determination in this proceeding is affirmative, in accordance with section 705(b) of the Act, the ITC will make its final determination as to whether the domestic industry in the United States is materially injured, or threatened with material injury, by reason of imports of slag pots from China no later than 45 days after our final determination. In addition, we are making available to the ITC all nonprivileged and nonproprietary information related to this investigation. We will allow the ITC access to all privileged and business proprietary information in our files, provided the ITC confirms that it will not disclose such information, either publicly or under an administrative protective order (APO), without the written consent of the Assistant Secretary for Enforcement and Compliance.

If the ITC determines that material injury or threat of material injury does not exist, this proceeding will be terminated and all cash deposits will be refunded or canceled, as Commerce determines to be appropriate. If the ITC determines that such injury does exist, Commerce intends to issue a countervailing duty order directing CBP to assess, upon further instruction by Commerce, countervailing duties on all imports of the subject merchandise that are entered, or withdrawn from warehouse, for consumption on or after the effective date of the suspension of liquidation, as discussed above in the “Continuation of Suspension of Liquidation” section.

Administrative Protective Order (APO)

In the event that the ITC issues a final negative injury determination, this notice will serve as the only reminder to parties subject to an APO of their responsibility concerning the destruction of proprietary information disclosed under APO in accordance with 19 CFR 351.305(a)(3). Timely written notification of the return/destruction of APO materials or conversion to judicial protective order is hereby requested. Failure to comply with the regulations and terms of an APO is a violation which is subject to sanction.

Notification to Interested Parties

We are issuing and publishing this final determination in accordance with sections 705(d) and 777(i) of the Act, and 19 CFR 351.210(c).

Dated: August 25, 2025.
Abdelali Elouaradia,
Deputy Assistant Secretary for Enforcement and Compliance.

Appendix

Scope of the Investigation

The merchandise covered by the investigation is slag pots with a nominal capacity of 65 cubic feet to 1200 cubic feet regardless of shape, form, or finish.

Slag pots are load bearing devices typically formed as a curved shell or bowl-shaped container. Slag pots are metallurgical goods typically produced either using a casting process or a fabrication process (e.g., welding) and may include a ceramic refractory coating, heat treatment or various finishes in order to handle high temperature slag. Slag pots may contain integral features or attachments including (1) legs (or a stand) and (2) pivotal mounting hooks or brackets. Legs (or a stand) are a fixed or detachable support structure which allows the slag pot to be securely positioned upright on a surface when not being lifted or transported and may also keep the slag pot off the ground and allow for air cooling. The pivotal mounting hooks and brackets are specialized attachment points (such as lifting lugs or trunnions) that allow the slag pot to be securely lifted and transported by a crane or lifting device, or that enable the slag pot to swing or rotate while remaining attached to the lifting mechanism. The merchandise covered by this investigation includes all aforementioned attachments of a fully assembled slag pot, regardless of whether shipped assembled or unassembled.

Slag pots are included within the scope whether finished or unfinished, whether imported individually or with other subject or non-subject merchandise, or whether assembled with attachments or unassembled. Finishing includes, but is not limited to, arc washing, welding, grinding, shot blasting, heat treatment, machining, and assembly of various parts.

The country of origin for slag pots whether fully assembled, unfinished or finished, is the country where the slag pot was cast or forged. Subject merchandise includes slag pots that have been further processed or further assembled in a third country. Further processing and further assembly include, but is not limited to, arc washing, welding, grinding, shot blasting, heat treatment, painting, coating, priming, machining, and assembly of attachments.

Slag pots subject to the investigation are specified within the Harmonized Tariff Schedule of the United States (HTSUS) under subheadings 7309.00.0090 and 8454.20.0080. The slag pot attachments covered by the scope of this investigation may enter under HTSUS subheadings 7316.00.0000, 7325.10.0080, 7325.99.1000, 7325.99.5000, and 7326.19.0080. The HTSUS subheading is provided for convenience and customs purposes only. The written description of the scope of the investigation is dispositive.

[FR Doc. 2025-16553 Filed 8-27-25; 8:45 am]

BILLING CODE 3510-DS-P